ENVIRONMENTAL PROTECTION AGENCY

[EPA-HQ-OECA-2007-0380; FRL-8574-5]

Agency Information Collection Activities; Submission to OMB for Review and Approval; Comment Request; Air Stationary Source Compliance and Enforcement Information (Renewal); EPA ICR No. 0107.09, OMB Control No. 2060-0096

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 2, 2008.

ADDRESSES: Submit your comments, referencing Docket ID No. EPA-HQ-OECA-2007-0380, to (1) EPA online using http://www.regulations.gov (our preferred method), by e-mail to docket.oeca@epa.gov, or by mail to: EPA Docket Center, Environmental Protection Agency, Enforcement and Compliance Docket and Information Center (ECDIC), MC2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Betsy Metcalf, Enforcement Targeting and Data Division, MC2222A, Environmental Protection Agency, 1200 Pennsylvania Ave., NW., Washington, DC 20460; telephone number: (202) 564-5962; fax number: (202) 564-0032; e-mail address: metcalf.betsy@epa.gov.

SUPPLEMENTARY INFORMATION: EPA has submitted the following ICR to OMB for review and approval according to the procedures prescribed in 5 CFR 1320.12. On Tuesday, October 23, 2007, 72 FR 60012, EPA sought comments on this ICR pursuant to 5 CFR 1320.8(d). EPA received two comments during the comment period, which are addressed in the ICR. Any additional comments on this ICR should be submitted to EPA and OMB within 30 days of this notice.

EPA has established a public docket for this ICR under Docket ID No. EPA-HQ-OECA-2007-0380, which is available for online viewing at http://www.regulations.gov, or in person viewing at the Enforcement and Compliance Docket and Information Center (ECDIC) in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the ECDIC Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Air Stationary Source Compliance and Enforcement Information (Renewal).

ICR Numbers: EPA ICR No. 0107.09, OMB Control No. 2060-0096.

ICR Status: This ICR is scheduled to expire on June 30, 2008. Under OMB regulations, the Agency may continue to conduct or sponsor the collection of information while this submission is pending at OMB. An Agency may not conduct or sponsor, and a person is not required to respond to, a collection of information, unless it displays a currently valid OMB control number. The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR Part 9.

Abstract: Source Compliance and State Action Reporting is an activity whereby State, District, Local, and Commonwealth governments make air compliance and enforcement information available to the U.S. Environmental Protection Agency (EPA or the Agency) on a cyclic basis via input to the Air Facility System (AFS). The information provided to EPA includes compliance activities and determinations, and enforcement activities. EPA uses this information to assess progress toward meeting emission requirements developed under the authority of the Clean Air Act (CAA or the Act) to protect and maintain the atmospheric environment and the public health. The EPA and many of the state and local agencies access the data in AFS to assist them in the management of their air pollution control programs.

Burden Statement: The annual public reporting and recordkeeping burden for this collection of information is estimated to average 131 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and Local Agencies.

Estimated Number of Respondents: 93.

Frequency of Response: 6 times per year.

Estimated Total Annual Hour Burden: 73,073.

Estimated Total Annual Cost: $3,504,531.00, inclusive of labor costs, and $00.00 for both annualized capital and O&M costs.

Changes in the Estimates: There is a decrease of 25,110 hours in the total estimated burden currently identified in the OMB Inventory of Approved ICR Burdens. This decrease is due to: Reduction in the major source universe, increase in the use of the Universal Interface software program, significant differences in the level of effort provided by different agencies in the maintenance and oversight of data, and the reduction of startup costs from the previous ICR.

Dated: May 23, 2008.
Sara Hisel-McCoy,
Director, Collection Strategies Division.

[FR Doc. E8-12265 Filed 5-30-08; 8:45 am]

BILLING CODE 6560-50-P